COMMITTEE FOR PURCHASE FROM PEOPLE WHO ARE BLIND OR SEVERELY DISABLED

Procurement List; Proposed Additions

AGENCY: Committee for Purchase from People Who Are Blind or Severely Disabled.

ACTION: Proposed Additions to Procurement List.

SUMMARY: The Committee is proposing to add to the Procurement List products and a service to be furnished by nonprofit agencies employing persons who are blind or have other severe disabilities.

Comments Must Be Received on or Before: January 18, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions. If the Committee approves the proposed additions, the entities of the Federal Government identified in the notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited. Commenters should identify the statement(s) underlying the certification on which they are providing additional information.

End of Certification

The following products and service are proposed for addition to Procurement List for production by the nonprofit agencies listed:

Products:

Product/NSN: 1 1/2′ Round Ring Vinyl Clad Binder

7510-00-NIB-0130—White

7510-00-NIB-0145—Blue

7510-00-NIB-0146—Red

7510-00-NIB-0147—Gray

7510-00-NIB-0148—Cinnamon

7510-00-NIB-0149—Brown

7510-00-NIB-0150—Green

7510-00-NIB-0151—Jade

NPA: South Texas Lighthouse for the Blind, Corpus Christi, Texas.

Contract Activity: Office Supplies & Paper Products Acquisition Center, New York, New York.

Product/NSN: Double Pocket Presentation Folder

7530-00-NIB-0698—Black

NPA: L.C. Industries For The Blind, Inc., Durham, North Carolina.

Contract Activity: Office Supplies & Paper Products Acquisition Center, New York, New York.

Product/NSN: Four Month Planner

7520-00-NIB-1689

NPA: The Lighthouse for the Blind, Inc. (Seattle Lighthouse), Seattle, Washington.

Contract Activity: Office Supplies & Paper Products Acquisition Center, New York, New York.

Product/NSN: Ranger Load Carrying System (RLCS)

8470-00-NSH-0018—Chest Harness Adapter (Individual Component)

8415-00-NSH-1129—Ranger Load Carrying System

8415-00-NSH-1130—Individual RLCS Kit

8415-00-NSH-1131—Rifle Squad RLCS Kit

8415-00-NSH-1132—Weapons Squad RLCS Kit

8415-00-NSH-1133—Sniper RLCS Kit

8415-00-NSH-1134—Medic RLCS Kit

8415-00-NSH-1135—Regimental Recon Detachment RLCS Kit

8415-00-NSH-1136—Radio Pocket (Individual Component)

8415-00-NSH-1137—War Belt Suspender (Individual Component)

8415-00-NSH-1138—Horizontal Pouch Adapter (Individual Component)

8415-00-NSH-1139—Squad Casualty Bag (Individual Component)

8415-00-NSH-1140—RLCS Kit Bag (Individual Component)

8415-00-NSH-1141—Sub Belt Holster Adapter (Individual Component)

NPA: Chautauqua County Chapter, NYSARC, Jamestown, New York.

Contract Activity: U.S. Army Robert Morris Acquisition Center, Natick, Massachusetts.

Services:

Service Type/Location: Grounds Maintenance Navy & Marine Corps Reserve Center 3144 Clement Avenue, Alameda, California.

NPA: Rubicon Programs, Inc., Richmond, California.

Contract Activity: Naval Facilities Engineering Command, Alameda, California.

Sheryl D. Kennerly,
Director, Information Management.

[FR Doc. 03-31382 Filed 12-18-03; 8:45 am]

BILLING CODE 6353-01-P